DEPARTMENT OF TRANSPORTATION

National Highway Traffic Safety Administration

[Docket No. NHTSA-2024-0002]

Advisory Committee on Underride Protection; Notice of Public Meetings

AGENCY: National Highway Traffic Safety Administration, Department of Transportation (DOT).

ACTION: Notice of public meetings.

SUMMARY: The National Highway Traffic Safety Administration (NHTSA) announces multiple meetings of the Advisory Committee on Underride Protection (ACUP). This notice announces the date, time, and location of these meetings, which will be open the public. The purpose of ACUP is to provide advice and recommendations to the Secretary of Transportation on safety regulations to reduce underride crashes and fatalities relating to underride crashes.

DATES: The four ACUP meetings will be held on February 8, March 13, April 24, and May 22, 2024, from 12:30 p.m. to 4:30 p.m. ET. Pre-registration is required to attend each online meeting. A link permitting access to the meeting will be distributed to registrants within 24 hours of the meeting start time.

ADDRESSES: Each meeting will be held virtually via Zoom. Information and registration for the meetings will be available on the NHTSA website (https://www.nhtsa.gov/events-and-public-meetings) at least one week in advance of the meeting.

FOR FURTHER INFORMATION CONTACT: James Myers, U.S. Department of Transportation, Special Vehicles and Systems Division, 1200 New Jersey Avenue SE, Washington, DC 20590, acup@dot.gov or (202) 493-0031.

SUPPLEMENTARY INFORMATION:

I. Background

ACUP was established as a statutory committee pursuant to section 23011(d) of the Infrastructure Investment and Jobs Act (IIJA), Public Law 117-58 (commonly referred to as the Bipartisan Infrastructure Law or BIL), and in accordance with the provisions of the Federal Advisory Committee Act (FACA), as amended, 5 U.S.C. app. 2. The purpose of ACUP is to provide information, advice, and recommendations to the Secretary of Transportation on safety regulations to reduce underride crashes and fatalities relating to underride crashes.

The Committee duties include the following:

a. Gathering information as necessary to discuss issues presented by the Designated Federal Officer (DFO).

b. Deliberating on issues relevant to safety regulations related to underride crashes and fatalities from underride crashes.

c. Providing written consensus advice to the Secretary on underride protection to reduce underride crashes and fatalities relating to underride crashes.

II. Agenda

The agenda for the 3rd ACUP meeting on February 8, 2024, will include the following:

Welcome & Call to Order

Overview of Rulemaking Process

Presentations

Discussion

a. Rear underride crashes

b. Prevention and mitigation technologies

c. Committee's recommendations to the Secretary of Transportation and Committee's report to Congress

Motions

Public Comment Period

Wrap Up, Assignments, and Adjourn

The agenda for the 4th ACUP meeting on March 13, 2024, will include the following:

Welcome & Call to Order

Presentations

Discussion

a. Side underride crashes

b. Prevention and mitigation technologies

c. Committee's recommendations to the Secretary of Transportation and Committee's report to Congress

Motions

Public Comment Period

Wrap Up, Assignments, and Adjourn

The agenda for the 5th ACUP meeting on April 24, 2024, will include the following:

Welcome & Call to Order

Presentations

Discussion

a. Front override crashes

b. Prevention and mitigation technologies

c. Committee's recommendations to the Secretary of Transportation and Committee's report to Congress

Motions

Public Comment Period

Wrap Up, Assignments, and Adjourn

The agenda for the 6th ACUP meeting on May 22, 2024, will include the following:

Welcome & Call to Order

Presentations

Discussion

a. Underride data needs

b. Committee's recommendations to the Secretary of Transportation and Committee's report to Congress

Motions

Public Comment Period

Wrap Up, Assignments, and Adjourn

III. Public Participation

The meetings will be open to the public. We are committed to providing equal access to this meeting for all participants. Persons with disabilities in need of an accommodation should send a request to the individual in the FOR FURTHER INFORMATION CONTACT section of this notice no later than one week prior to each meeting.

Members of the public wanting to reserve time to speak directly to the Committee during the meeting must submit a request. The request must include the name, contact information (address, phone number, and email address), and organizational affiliation of the individual wishing to address ACUP; it must also include a written copy of prepared remarks and must be forwarded to the individual listed in the FOR FURTHER INFORMATION CONTACT section of this notice no later than one week before each meeting. Due to limited availability of public speaking time, some requests may not be granted.

Members of the public may also submit written materials, questions, and comments to the Committee in advance to the individual listed in the FOR FURTHER INFORMATION CONTACT section of this notice no later than one week before each meeting. All advance submissions will be reviewed by the DFO. Advance submissions shall be circulated to ACUP representatives for review prior to the meeting. Advance submissions that become part of the committee deliberations will become part of the official record of the meeting.

Authority: The Committee is established as a statutory committee under the authority of section 23011 of IIJA, Pub. L. 117-58 (2021), and established in accordance with the provisions of the FACA, as amended, 5 U.S.C. app. 2.

Raymond R. Posten,
Associate Administrator for Rulemaking.

[FR Doc. 2024-00733 Filed 1-16-24; 8:45 am]

BILLING CODE 4910-59-P